DEPARTMENT OF THE INTERIOR

Bureau of Land Management

[LLWO320000 L13300000 PO0000; OMB Control Number 1004-0121]

Agency Information Collection Activities; Submission to the Office of Management and Budget for Review and Approval; Leasing of Solid Minerals Other Than Coal and Oil Shale

AGENCY: Bureau of Land Management, Interior.

ACTION: Notice of information collection; request for comment.

SUMMARY: In accordance with the Paperwork Reduction Act of 1995, we, the Bureau of Land Management (BLM), are proposing to renew an information collection.

DATES: Interested persons are invited to submit comments on or before August 22, 2019.

ADDRESSES: Send written comments on this information collection request (ICR) to the Office of Management and Budget's Desk Officer for the Department of the Interior by email at OIRA_Submission@omb.eop.gov; or via facsimile to (202) 395-5806. Please provide a copy of your comments to the BLM at U.S. Department of the Interior, Bureau of Land Management, 1849 C Street NW, Room 2134LM, Washington, DC 20240, Attention: Jean Sonneman; or by email to jesonnem@blm.gov. Please reference OMB Control Number 1004-0121 in the subject line of your comments.

FOR FURTHER INFORMATION CONTACT: To request additional information about this ICR, contact Lindsey Curnutt by email at lcurnutt@BLM.gov, or by telephone at 202-912-7574. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on April 16, 2019 (84 FR 15634). No comments were received.

We are again soliciting comments on the proposed ICR that is described below. We are especially interested in public comment addressing the following issues: (1) Is the collection necessary to the proper functions of the BLM; (2) Will this information be processed and used in a timely manner; (3) Is the estimate of burden accurate; (4) How might the BLM enhance the quality, utility, and clarity of the information to be collected; and (5) How might the BLM minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Control number 1004-0121 authorizes the BLM to collect information pertaining to the leasing of solid minerals other than coal and oil shale, and the development of those leases.

Title of Collection: Leasing of Solid Minerals Other Than Coal and Oil Shale.

OMB Control Number: 1004-0121.

Form Numbers: 3504-1, 3504-3, 3504-4, 3510-1, 3510-2, and 3510-7.

Type of Review: Extension of a currently approved collection.

Respondents/Affected Public: Businesses that apply for leases for minerals other than coal and oil shale, and businesses that hold such leases.

Total Estimated Number of Annual Respondents: 507.

Total Estimated Number of Annual Responses: 507.

Estimated Completion Time per Response: Varies from 1 to 800 hours, depending on activity.

Total Estimated Number of Annual Burden Hours: 27,306 hours.

Respondent's Obligation: Required to obtain or retain a benefit.

Frequency of Collection: On occasion.

Total Estimated Annual Non-Hour Burden Cost: $2,050,695.

An agency may not conduct or sponsor and a person is not required to respond to a collection of information unless it displays a currently valid OMB control number. The authority for this action is the Paperwork Reduction Act of 1995 (44 U.S.C. 3501 et seq.).

Jean Sonneman,
Bureau of Land Management, Information Collection Clearance Officer.

[FR Doc. 2019-15643 Filed 7-22-19; 8:45 am]

BILLING CODE 4310-84-P